DEPARTMENT OF ENERGY

Federal Energy Regulatory Commission

Combined Notice of Filings #1

Take notice that the Commission received the following exempt wholesale generator filings:

Docket Numbers: EG23-174-000.

Applicants: Red Tailed Hawk Solar LLC.

Description: Red Tailed Hawk Solar LLC submits Notice of Self-Certification of Exempt Wholesale Generator Status.

Filed Date: 6/1/23.

Accession Number: 20230601-5307.

Comment Date: 5 p.m. ET 6/22/23.

Docket Numbers: EG23-175-000.

Applicants: AEUG Union Solar LLC.

Description: AEUG Union Solar LLC submits Notice of Self-Certification of Exempt Wholesale Generator Status.

Filed Date: 6/1/23.

Accession Number: 20230601-5308.

Comment Date: 5 p.m. ET 6/22/23.

Take notice that the Commission received the following Complaints and Compliance filings in EL Dockets:

Docket Numbers: EL23-74-000.

Applicants: East Kentucky Power Cooperative, Inc. v. PJM Interconnection, L.L.C.

Description: Complaint of East Kentucky Power Cooperative, Inc. v. PJM Interconnection, L.L.C.

Filed Date: 5/31/23.

Accession Number: 20230531-5426.

Comment Date: 5 p.m. ET 6/30/23.

Take notice that the Commission received the following electric rate filings:

Docket Numbers: ER21-502-006.

Applicants: New York Independent System Operator, Inc.

Description: Compliance filing: NYISO Compliance Demand Curve reset re: FERC's May 2023 Order to be effective 6/9/2023.

Filed Date: 6/2/23.

Accession Number: 20230602-5118.

Comment Date: 5 p.m. ET 6/16/23.

Docket Numbers: ER23-1591-001.

Applicants: Westlands Transmission, LLC.

Description: Tariff Amendment: Revised 2nd Amended TSA Castanea Project (ER23-1591-) to be effective 4/8/2023.

Filed Date: 6/2/23.

Accession Number: 20230602-5177.

Comment Date: 5 p.m. ET 6/12/23.

Docket Numbers: ER23-1623-001.

Applicants: Mesquite Solar 4, LLC.

Description: Tariff Amendment: MS4 and MS5 Inter-Company SFA and Inter-Phase SFA Concurrence Amendments to be effective 4/13/2023.

Filed Date: 6/2/23.

Accession Number: 20230602-5124.

Comment Date: 5 p.m. ET 6/12/23.

Docket Numbers: ER23-1624-001.

Applicants: Mesquite Solar 5, LLC.

Description: Tariff Amendment: MS4 and MS5 Inter-Company SFA and Inter-Phase SFA Concurrence Amendments to be effective 4/13/2023.

Filed Date: 6/2/23.

Accession Number: 20230602-5126.

Comment Date: 5 p.m. ET 6/12/23.

Docket Numbers: ER23-1626-001.

Applicants: Mesquite Solar 5, LLC.

Description: Tariff Amendment: MS4 and MS5 Inter-Company SFA and Inter-Phase SFA Concurrence Amendments to be effective 4/13/2023.

Filed Date: 6/2/23.

Accession Number: 20230602-5127.

Comment Date: 5 p.m. ET 6/12/23.

Docket Numbers: ER23-1627-001.

Applicants: Mesquite Solar 4, LLC.

Description: Tariff Amendment: MS4 and MS5 Inter-Company SFA and Inter-Phase SFA Concurrence Amendments to be effective 4/13/2023.

Filed Date: 6/2/23.

Accession Number: 20230602-5125.

Comment Date: 5 p.m. ET 6/12/23.

Docket Numbers: ER23-2040-000.

Applicants: New York Independent System Operator, Inc.

Description: § 205(d) Rate Filing: NYISO 205: DER and Aggregation market rule changes to be effective 12/31/9998.

Filed Date: 6/1/23.

Accession Number: 20230601-5217.

Comment Date: 5 p.m. ET 6/22/23.

Docket Numbers: ER23-2041-000.

Applicants: AEP Texas Inc.

Description: § 205(d) Rate Filing: AEPTX-Seven Flags BESS Generation Interconnection Agreement to be effective 5/19/2023.

Filed Date: 6/2/23.

Accession Number: 20230602-5033.

Comment Date: 5 p.m. ET 6/23/23.

Docket Numbers: ER23-2042-000.

Applicants: AEP Texas Inc.

Description: § 205(d) Rate Filing: AEPTX-Monte Cristo Windpower System Upgrade Agreement to be effective 5/18/2023.

Filed Date: 6/2/23.

Accession Number: 20230602-5037.

Comment Date: 5 p.m. ET 6/23/23.

Docket Numbers: ER23-2043-000.

Applicants: PJM Interconnection, L.L.C.

Description: § 205(d) Rate Filing: Original IISA, SA No. 6919 and ICSA, SA No. 6920; Queue No. AG1-135 to be effective 5/3/2023.

Filed Date: 6/2/23.

Accession Number: 20230602-5038.

Comment Date: 5 p.m. ET 6/23/23.

Docket Numbers: ER23-2044-000.

Applicants: PJM Interconnection, L.L.C.

Description: § 205(d) Rate Filing: Amendment to ISA, Service Agreement No. 6232; Queue No. AE1-071 to be effective 8/1/2023.

Filed Date: 6/2/23.

Accession Number: 20230602-5065.

Comment Date: 5 p.m. ET 6/23/23.

Docket Numbers: ER23-2045-000.

Applicants: Niagara Mohawk Power Corporation, New York Independent System Operator, Inc.

Description: § 205(d) Rate Filing: Niagara Mohawk Power Corporation submits tariff filing per 35.13(a)(2)(iii: Niagara Mohawk 205: CRA between Niagara Mohawk and Westfield, SA No. 2781 to be effective 5/3/2023.

Filed Date: 6/2/23.

Accession Number: 20230602-5094.

Comment Date: 5 p.m. ET 6/23/23.

Docket Numbers: ER23-2046-000.

Applicants: Georgia Power Company.

Description: Tariff Amendment: Lancaster Solar Affected System Construction Agreement Termination Filing to be effective 8/1/2023.

Filed Date: 6/2/23.

Accession Number: 20230602-5095.

Comment Date: 5 p.m. ET 6/23/23.

Docket Numbers: ER23-2047-000.

Applicants: Georgia Power Company.

Description: Tariff Amendment: Odom Solar Affected System Construction Agreement Termination Filing to be effective 8/1/2023.

Filed Date: 6/2/23.

Accession Number: 20230602-5096.

Comment Date: 5 p.m. ET 6/23/23.

Docket Numbers: ER23-2048-000.

Applicants: Georgia Power Company.

Description: Tariff Amendment: SR Arlington II Affected System Construction Agreement Termination Filing to be effective 8/1/2023.

Filed Date: 6/2/23.

Accession Number: 20230602-5097.

Comment Date: 5 p.m. ET 6/23/23.

Docket Numbers: ER23-2049-000.

Applicants: Georgia Power Company.

Description: Tariff Amendment: SR Baxley Affected System Construction Agreement Termination Filing to be effective 8/1/2023.

Filed Date: 6/2/23.

Accession Number: 20230602-5098.

Comment Date: 5 p.m. ET 6/23/23.

Docket Numbers: ER23-2050-000.

Applicants: Georgia Power Company.

Description: Tariff Amendment: SR Clay Affected System Construction Agreement (GPAS 014) Termination Filing to be effective 8/1/2023.

Filed Date: 6/2/23.

Accession Number: 20230602-5099.

Comment Date: 5 p.m. ET 6/23/23.

Docket Numbers: ER23-2051-000.

Applicants: Georgia Power Company.

Description: Tariff Amendment: SR DeSoto Affected System Construction Agreement (GPAS 016) Termination Filing to be effective 8/1/2023.

Filed Date: 6/2/23.

Accession Number: 20230602-5103.

Comment Date: 5 p.m. ET 6/23/23.

Docket Numbers: ER23-2052-000.

Applicants: Georgia Power Company.

Description: Tariff Amendment: SR Lumpkin Affected System Construction Agreement Termination Filing to be effective 8/1/2023.

Filed Date: 6/2/23.

Accession Number: 20230602-5105.

Comment Date: 5 p.m. ET 6/23/23.

Docket Numbers: ER23-2053-000.

Applicants: Georgia Power Company.

Description: Tariff Amendment: SR Perry Affected System Construction Agreement (GPAS 013) Termination Filing to be effective 8/1/2023.

Filed Date: 6/2/23.

Accession Number: 20230602-5106.

Comment Date: 5 p.m. ET 6/23/23.

Docket Numbers: ER23-2054-000.

Applicants: Midcontinent Independent System Operator, Inc.

Description: § 205(d) Rate Filing: 2023-06-02_SA 3114 Entergy Arkansas-Walnut Bend Solar 1st Rev GIA (J552) to be effective 5/23/2023.

Filed Date: 6/2/23.

Accession Number: 20230602-5107.

Comment Date: 5 p.m. ET 6/23/23.

Docket Numbers: ER23-2055-000.

Applicants: Georgia Power Company.

Description: Tariff Amendment: SR Snipesville Affected System Construction Agreement Termination Filing to be effective 8/1/2023.

Filed Date: 6/2/23.

Accession Number: 20230602-5111.

Comment Date: 5 p.m. ET 6/23/23.

Docket Numbers: ER23-2056-000.

Applicants: Georgia Power Company.

Description: Tariff Amendment: SR Terrell Affected System Construction Agreement Termination Filing to be effective 8/1/2023.

Filed Date: 6/2/23.

Accession Number: 20230602-5112.

Comment Date: 5 p.m. ET 6/23/23.

Docket Numbers: ER23-2057-000.

Applicants: Southern California Edison Company.

Description: § 205(d) Rate Filing: 4th Amend LGIA, Marvel + Removal from eTariff (TOT789/Q1295-SA219) to be effective 6/3/2023.

Filed Date: 6/2/23.

Accession Number: 20230602-5133.

Comment Date: 5 p.m. ET 6/23/23.

Docket Numbers: ER23-2058-000.

Applicants: California Independent System Operator Corporation.

Description: § 205(d) Rate Filing: 2023-06-02 Interconnection Process Enhancements 2023 Track 1 to be effective 12/31/9998.

Filed Date: 6/2/23.

Accession Number: 20230602-5152.

Comment Date: 5 p.m. ET 6/23/23.

Docket Numbers: ER23-2059-000.

Applicants: Ameren Transmission Company of Illinois.

Description: § 205(d) Rate Filing: RS 2—Joint Use Agreement with Northeast Missouri to be effective 8/2/2023.

Filed Date: 6/2/23.

Accession Number: 20230602-5170.

Comment Date: 5 p.m. ET 6/23/23.

Docket Numbers: ER23-2060-000.

Applicants: Entergy Louisiana, LLC.

Description: § 205(d) Rate Filing: SRA LBA Agreement to be effective 6/1/2023.

Filed Date: 6/2/23.

Accession Number: 20230602-5174.

Comment Date: 5 p.m. ET 6/23/23.

Docket Numbers: ER23-2061-000.

Applicants: Ameren Transmission Company of Illinois.

Description: § 205(d) Rate Filing: Joint Use Agreement ATXI and UEC to be effective 8/2/2023.

Filed Date: 6/2/23.

Accession Number: 20230602-5175.

Comment Date: 5 p.m. ET 6/23/23.

Docket Numbers: ER23-2062-000.

Applicants: California Independent System Operator Corporation.

Description: Compliance filing: 2023-06-02 Petition for Limited Waiver Filing—Greenhouse Gas Price-Washington to be effective N/A.

Filed Date: 6/2/23.

Accession Number: 20230602-5178.

Comment Date: 5 p.m. ET 6/23/23.

Docket Numbers: ER23-2063-000.

Applicants: Ameren Transmission Company of Illinois.

Description: § 205(d) Rate Filing: RS 4 Fiber License Agreement with Northeast Missouri Electric to be effective 8/2/2023.

Filed Date: 6/2/23.

Accession Number: 20230602-5185.

Comment Date: 5 p.m. ET 6/23/23.

Docket Numbers: ER23-2064-000.

Applicants: Ameren Transmission Company of Illinois.

Description: § 205(d) Rate Filing: Fiber License Agreement with City of Rolla, RS 5 to be effective 8/2/2023.

Filed Date: 6/2/23.

Accession Number: 20230602-5190.

Comment Date: 5 p.m. ET 6/23/23.

Docket Numbers: ER23-2065-000.

Applicants: New England Power Company.

Description: § 205(d) Rate Filing: 2023-06-02 Filing of LGIA with Millennium Power and Request for CEII Treatment to be effective 5/3/2023.

Filed Date: 6/2/23.

Accession Number: 20230602-5202.

Comment Date: 5 p.m. ET 6/23/23.

Docket Numbers: ER23-2066-000.

Applicants: Antelope Valley BESS, LLC.

Description: § 205(d) Rate Filing: Market-Based Rate Application and Request for Expedited Action to be effective 7/17/2023.

Filed Date: 6/2/23.

Accession Number: 20230602-5208.

Comment Date: 5 p.m. ET 6/23/23.

Docket Numbers: ER23-2067-000.

Applicants: Union Electric Company.

Description: § 205(d) Rate Filing: RS 504 Joint Use Agreement with Northeast Missouri Electric to be effective 8/2/2023.

Filed Date: 6/2/23.

Accession Number: 20230602-5213.

Comment Date: 5 p.m. ET 6/23/23.

Docket Numbers: ER23-2068-000.

Applicants: Ameren Transmission Company of Illinois.

Description: § 205(d) Rate Filing: ATXI Certificate of Concurrence with ITC Midwest to be effective 8/2/2023.

Filed Date: 6/2/23.

Accession Number: 20230602-5216.

Comment Date: 5 p.m. ET 6/23/23.

Docket Numbers:ER23-2069-000.

Applicants: Union Electric Company.

Description: § 205(d) Rate Filing: Certificate of Concurrence with ITC to be effective 8/2/2023.

Filed Date: 6/2/23.

Accession Number: 20230602-5226.

Comment Date: 5 p.m. ET 6/23/23.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 2, 2023.
Kimberly D. Bose,
Secretary.

[FR Doc. 2023-12240 Filed 6-7-23; 8:45 am]

BILLING CODE 6717-01-P